DEPARTMENT OF AGRICULTURE

Forest Service

Notice of Extension of Public Comment Period for Draft Environmental Impact Statement: North Fork Eagle Creek Wells Special Use Authorization

AGENCY: Forest Service, USDA.

ACTION: Notice of Extension to Comment Period.

SUMMARY: The USDA Forest Service, Lincoln National Forest, is extending the public comment period for a draft environmental impact statement (DEIS) that discloses the potential impacts of a proposed action to authorize, under a new special use permit, the operation of four municipal supply water wells located on National Forest System (NFS) land in the North Fork Eagle Creek drainage. The new permit would be authorized for up to 20 years, with stipulations for frequent review and verification of the permit terms and conditions. These could occur as often as every year but would occur at least every 5 to 10 years. The new authorization would add terms and conditions to the permit reflecting current adaptive management strategies which both respond to the purpose and need for action, and mitigate potential adverse impacts to surface water and groundwater resources from well operations. The Environmental Protection Agency (EPA) published a notice of availability (NOA) of the DEIS in the Federal Register on May 25, 2012 [77-31355; ER-FRL-9003-2]. The NOA provided for a public comment period ending on July 9, 2012.

DATES: Due to the extenuating circumstances caused by the Little Bear wildfire, several individuals and organizations have requested an extension of the comment period. The Forest Service has decided to accommodate these requests; therefore, comments will now be accepted through September 7, 2012. Comments received or postmarked after September 7, 2012 will be considered to the extent practicable. Those parties who submit comments on or before this date will be eligible appeal a decision on the project in accordance with 36 CFR part 215.

ADDRESSES: Copies of the DEIS are available for public review at the following locations:

• Lincoln National Forest Supervisor's Office: 3463 Las Palomas Road, Alamogordo, New Mexico.

• Smokey Bear Ranger District: 901 Mechem Drive, Ruidoso, New Mexico.

Written comments on the DEIS are best submitted electronically by accessing http://www.fs.fed.us/nepa/fs-usda-pop.php?project=9603. To electronically comment, select ‘Comment on Project' in the ‘Get Connected' box on the right side of Web page. Written comments may also be submitted to: Robert G. Trujillo, Forest Supervisor, Lincoln National Forest, 3463 Las Palomas Rd., Alamogordo, NM 88310, or facsimile 575-434-7218. Oral comments can be provided at the Responsible Official's office during normal business hours (8 a.m.-4:30 p.m. Monday through Friday, excluding holidays), via telephone 575-434-7200, or in person.

FOR FURTHER INFORMATION CONTACT: Debbie McGlothlin, Environmental Coordinator, TEAMS Enterprise Unit, at 559-920-4952.

Dated: June 25, 2012.
Robert G. Trujillo,
Forest Supervisor.

[FR Doc. 2012-16199 Filed 6-29-12; 8:45 am]

BILLING CODE 3410-11-P